DEPARTMENT OF COMMERCE

National Oceanic and Atmospheric Administration

50 CFR Part 679

[Docket No. 040115020-4020-01; I.D. 010204B]

RIN 0648-AR07

Individual Fishing Quota (IFQ) Program for Pacific Halibut and Sablefish; Groundfish fisheries of the Exclusive Economic Zone (EEZ) off the coast of Alaska; Recordkeeping and Reporting

AGENCY: National Marine Fisheries Service (NMFS), National Oceanic and Atmospheric Administration (NOAA), Commerce.

ACTION: Proposed rule.

SUMMARY: NMFS proposes to revise port codes (Tables 14a and 14b) used in data collection for the Federal groundfish fisheries in the EEZ off the coast of Alaska and the Individual Fishing Quota (IFQ) Program. This revision would remove unnecessary or potentially conflicting regulations, facilitate enforcement efforts, and standardize collection of port-of-landing information. The action is necessary to standardize collection and analysis of port information. This action is intended to meet the conservation and management requirements of the Northern Pacific Halibut Act of 1982 (Halibut Act) with respect to halibut and of the Magnuson-Stevens Fishery Conservation and Management Act, (Magnuson-Stevens Act) with respect to groundfish and to further the goals and objectives of the Alaska groundfish fishery management plans.

DATES: Comments must be received by March 1, 2004.

ADDRESSES: Comments may be mailed to Sue Salveson, Assistant Regional Administrator, Sustainable Fisheries Division, Alaska Region, NMFS, P.O. Box 21668, Juneau, AK 99802 1668, Attn: Lori Durall. Hand delivery or courier delivery of comments may be sent to NMFS, 709 West 9th Street, Room 420, Juneau, AK 99801. Comments may also be sent via facsimile to 907 586 7557. As an agency pilot test for accepting comments electronically, the Alaska Region, NMFS, will accept e-mail comments on this proposed rule. The mailbox address for providing e-mail comments on this proposed rule is RPC-0648-AR07@noaa.gov.

Copies of the Regulatory Impact Review (RIR) prepared for this proposed regulatory action are available from NMFS at Sue Salveson, Assistant Regional Administrator, Sustainable Fisheries Division, Alaska Region, NMFS, P.O. Box 21668, Juneau, AK 99802 1668, Attn: Lori Durall, or by calling the Alaska Region, NMFS, at (907) 586 7228. Written comments regarding the burden-hour estimates or other aspects of the collection-of-information requirements contained in this proposed rule may be submitted to NMFS, Alaska Region, and by e-mail to David_Rostker@omb.eop.gov, or fax to (202) 395-7285.

FOR FURTHER INFORMATION CONTACT: Patsy A. Bearden, 907-586-7008.

SUPPLEMENTARY INFORMATION: NMFS manages the groundfish fisheries of the Gulf of Alaska (GOA) and the Bering Sea/Aleutian Islands Management Area (BSAI) in the exclusive economic zone (EEZ) according to the Fishery Management Plan for Groundfish of the Gulf of Alaska and the Fishery Management Plan for the Groundfish Fishery of the Bering Sea and Aleutian Islands Area (FMPs) prepared by the North Pacific Fishery Management Council (Council) and approved by the Secretary of Commerce (Secretary) under authority of the Magnuson-Stevens Act. The FMPs are implemented by regulations at 50 CFR part 679. NMFS manages the IFQ Halibut Program under the Northern Pacific Halibut Act of 1982 (Halibut Act); implementing regulations are at 50 CFR part 300.60 through 300.65. General provisions governing fishing by U.S. vessels in accordance with the FMPs appear at subpart H of 50 CFR part 600.

Tables 14a and 14b to Part 679 provide lists of ports in Alaska, California, Oregon, Washington, and Canada at which IFQ landings and Federal groundfish landings may be made. Two distinct coding systems are presented. These two systems identify the same ports using different codes. The codes were developed separately, one at NMFS and the other at the State of Alaska Department of Fish and Game (ADF&G).

The numerical codes identify ports where IFQ landings are made and are entered by participants when filing an IFQ prior notice of landing (PNOL) and when electronically reporting an IFQ landing (see 50 CFR part 679.5(l)). The alphabetical codes identify ports where groundfish landings are made. Alphabetical codes are entered by participants completing an ADF&G fish ticket and also by shoreside processor participants entering data into the NMFS' groundfish shoreside processor electronic logbook report (SPELR) (see 50 CFR part 679.5(c)).

Tables 14a and 14b would be revised as follows: (1) numerical codes that are no longer used for IFQ landings and that do not have a corresponding alphabetical code would be removed and (2) numerical codes for ports that are geographically close enough to be reported as one port would be combined.

By removing codes for ports that are not used by the fishing industry for IFQ landings, NMFS would create a more accurate list of viable port codes. This action also would reconcile port codes for both NMFS and ADF&G fishery documentation.

The proposed revisions to Tables 14a and 14b are shown in the following table:

Existing Port Information: Port Name | Existing Port Information: OLD Numerical Code | Existing Port Information: OLD Alpha Code | Proposed Port Information: Action | Proposed Port Information: NEW Numerical Code | Proposed Port Information: NEW Alpha Code
Anchor Point | 104 | none | Remove 104 | none | none
Auke Bay | 108 | none | Remove 108; combine into Juneau | 136 | JNU
Baranof Warm Springs | 109 | none | Remove 109 | none | none
Beaver Inlet | 110 | none | Remove 110; combine Beaver Inlet into Dutch Harbor/ Unalaska | 119 | DUT
Bellevue (Washington) | 701 | none | Remove 701 | none | none
Blaine (Washington) | none | BLA | Add 717 | 717 | BLA
Captains Bay | 112 | none | Remove 112; combine Captains Bay into Dutch Harbor/ Unalaska | 119 | DUT
Chinitna Bay | 114 | none | Remove 114 | none | none
Douglas | 118 | none | remove 118; combine into Juneau | 136 | JNU
Edmonds (Washington) | 703 | none | Remove 703 | none | none
Edna Bay | 121 | none | Remove 121 | none | none
Fort Bragg(California) | 501 | none | Remove 501 | none | none
Fox Island (Washington) | 706 | none | Remove 706 | none | none
Hollis | 131 | none | Remove 131 | none | none
Hooper Bay | 188 | none | Remove 188 | none | none
Ikatan Bay | 135 | none | Remove 135 | none | none
Ilwaco (Washington) | 707 | none | Remove 707 | none | none
Kenai River | 140 | none | Remove 140; combine Kenai River into Kenai | 139 | KEN
Lincoln City (Oregon) | 602 | none | Remove 602 | none | none
Mercer Island (Washington) | 709 | none | Remove 709 | none | none
Nagai Island (Washington) | 710 | none | Remove 710 | none | none
Point Baker | 157 | none | Remove 157 | none | none
Port Angeles (Washington) | 711 | none | Remove 711 | none | none
Port Edward (CANADA) | 800 | none | Remove 800; combine Port Edward into Prince Rupert | 802 | PRU
Port Hardy (CANADA) | 801 | none | Remove 801 | none | none
Port Orchard (Washington) | 712 | none | Remove 712 | none | none
Port Townsend (Washington) | 713 | none | Remove 713 | none | none
Portage Bay | 162 | none | Remove 162 | none | none
Rainier (Washington) | 714 | none | Remove 714 | none | none
Resurrection Bay | 163 | none | Remove 163 | none | none
St. Lawrence | 171 | none | Remove 171 | none | none
Tee Harbor | 173 | none | Remove 173; combinr into Juneau | 136 | JNU
Thorne Bay | 175 | none | Remove 175 | none | none
Ugadaga Bay | 179 | none | Remove 179 | none | none
Vancouver (CANADA) | 803 | none | Remove 803 | none | none
West Anchor Cove | 182 | none | Remove 182 | none | none

The need, justification, and economic impacts for the actions in this proposed rule, as well as impacts of the alternatives considered, were analyzed in the RIR prepared for this action (see ADDRESSES). A summary appears below.

Prior notice of landing. The objective of the PNOL is to provide the International Pacific Halibut Commission (IPHC) monitoring personnel and NOAA Fisheries Office for Law Enforcement (OLE) personnel advance notice of vessel IFQ landings. Prior to making an IFQ landing, the operator of any vessel intending to make a landing of IFQ halibut, CDQ halibut, or IFQ sablefish must submit a PNOL to OLE. The PNOL allows OLE time to scan the IFQ database to verify the vessel and quota share (QS) information and to schedule monitoring personnel to observe the offload. The PNOL is submitted to OLE, Juneau, AK by toll-free telephone or the marine operator, unless an administrative waiver is granted by a clearing officer. Regulations at 50 CFR part 679 authorize exemptions from submittal of the PNOL for fishermen landing less than 500 lb of halibut incidentally with legal landings of lingcod harvested with dinglebar gear or legal landings of salmon. A landing completed without a PNOL would be investigated by OLE. An estimated 1,042 catcher vessels annually submit a PNOL resulting in an estimated annual total personnel cost of $52,100. The proposed action does not increase or decrease these costs because only the codes are changing, not the procedure.

The IFQ cardholder must initiate a landing report of IFQ sablefish or IFQ halibut and a CDQ halibut cardholder must submit a landing report of CDQ halibut landed upon arrival at the dock. An estimated 1,042 catcher vessels annually submit an IFQ landing report resulting in an estimated annual total personnel cost of $117,225 and estimated annual total miscellaneous cost of $93,780. The proposed action does not increase or decrease these costs because only the codes are changing, not the procedure.

Classification

At this time, NMFS has not determined whether the amendment that this proposed rule would implement is consistent with the national standards of the Magnuson-Stevens Act and other applicable laws. NMFS, in making that determination, will take into account the data, views, and comments received during the comment period.

This proposed rule has been determined to be not significant for purposes of Executive Order 12866.

The Chief Counsel for Regulation of the Department of Commerce certified to the Chief Counsel for Advocacy of the Small Business Administration that this proposed rule, if adopted, would not have a significant economic impact on a substantial number of small entities. This proposed rule would have no effect on any small entities because there is no effect on fishing activity. It does not impose any financial obligations on small entities. As a result, an initial regulatory flexibility analysis was not prepared. Vessel operators would be required to use the new, consolidated list of port codes when they file PNOL reports. However, the impact of this requirement would be to shorten the list of port codes in Tables 14a and 14b used in landings data collection for the Federal groundfish fisheries in the EEZ off the coast of Alaska and in the IFQ Program and would make it easier to use these tables. This action would not change reporting requirements and would remove unnecessary or potentially conflicting regulations.

This proposed rule contains collection-of-information requirements subject to the Paperwork Reduction Act (PRA) and which have been approved by OMB. Under control number 0648-0272, public reporting burden for the PNOL is estimated to average 12 minutes per response; for the IFQ landing report, estimated 18 minutes per response. Under control number 0648-0401, public reporting burden for the Shoreside Processor Electronic Logbook Report (SPELR) is estimated 30 minutes per response.

These estimates include the time for reviewing instructions, searching existing data sources, gathering and maintaining the data needed, completing and reviewing the collection of information. Send comments regarding this burden estimate, or any other aspect of this data collection, including suggestions for reducing the burden, to NMFS (see ADDRESSEES) and by e-mail to David_Rostker@omb.eop.gov, or fax to (202) 395-7285.

Notwithstanding any other provision of the law, no person is required to respond to, nor shall any person be subject to a penalty for failure to comply with, a collection of information subject to the requirements of the PRA, unless that collection of information displays a currently valid OMB Control Number.

This proposed rule does not duplicate, overlap, or conflict with other Federal regulations.

List of Subjects in 50 CFR Part 679

Alaska, Fisheries, Recordkeeping and reporting requirements.

Dated: January 23, 2004.
Rebecca Lent,
Deputy Assistant Administrator for Regulatory Programs, National Marine Fisheries Service.

For reasons set out in the preamble, 50 CFR part 679 is proposed to be amended as follows:

PART 679—FISHERIES OF THE EXCLUSIVE ECONOMIC ZONE OFF ALASKA

1. The authority citation for part 679 continues to read as follows:

Authority: 16 U.S.C. 773 et seq., 1801 et seq.; 3631 et seq.; Title II of Division C, Pub. L. 105-277; Sec 3027, Pub. L. 106-31; 113 Stat. 57; 16 U.S.C. 1540(f); and Sec. 209, Pub. L. 106-554.

Table 14 to Part 679 [Amended]

2. Tables 14a and 14b to Part 679 are revised as follows:

BILLING CODE 3510-22-S

[FR Doc. 04-1938 Filed 1-27-04; 8:45 am]

BILLING CODE 3510-22-C